DEPARTMENT OF COMMERCE

National Oceanic and Atmospheric Administration

[I.D. 072806C]

Marine Mammals; File No. 87-1851

AGENCY: National Marine Fisheries Service (NMFS), National Oceanic and Atmospheric Administration (NOAA), Commerce.

ACTION: Notice; receipt of application for permit.

SUMMARY: Notice is hereby given that Daniel P. Costa, Ph.D., Department of Biology and Institute of Marine Sciences, University of California, Santa Cruz, CA 95064, has applied for a permit to conduct research on pinnipeds in Antarctica and California.

DATES: Written, telefaxed, or e-mail comments must be received on or before September 5, 2006.

ADDRESSES: The application and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

Written comments or requests for a public hearing on this application should be submitted to the Chief, Permits, Conservation and Education Division, F/PR1, Office of Protected Resources, NMFS, 1315 East-West Highway, Room 13705, Silver Spring, MD 20910. Those individuals requesting a hearing should set forth the specific reasons why a hearing would be appropriate.

Comments may also be submitted by facsimile at (301) 427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 87-1851.

FOR FURTHER INFORMATION CONTACT: Amy Sloan, (301)713-2289.

SUPPLEMENTARY INFORMATION: The permit is requested under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant proposes to conduct two projects over a 5-year period. Project I involves research in Antarctica to conduct tagging studies and physiological measurements on up to 35 Crabeater seals (Lobodon carcinophagus), 35 southern elephant seals (Mirounga leonina), 10 leopard seals (Hydrurga leptonyx), 10 Weddell seals (Leptonychotes weddellii), and five Ross seals (Ommatophoca rossii) of any age annually. Procedures would include capture, sedation, ultrasound, morphometrics, isotope and Evans blue dye administration, blood sampling, tagging/marking, instrument attachment, stomach lavage, specimen collection (whisker, claw, tooth, muscle and blubber biopsy), and recapture to remove instruments. An additional 50 juvenile southern elephant seals would be captured, weighed, measured, and flipper tagged annually. An additional 10 adult leopard seals, 10 adult Weddell seals, and 30 adult female southern elephant seals would have flipper tags applied annually. Up to 100 additional southern elephant seals and 100 additional seals of the other four species combined would be harassed annually incidental to these activities. The applicant also requests unintentional research-related mortality of up to three seals of any of these five seal species annually, not to exceed eight seals over the five years of the permit. Tissue samples would be imported into the United States.

Project II would involve research on California sea lions (Zalophus californianus) to investigate foraging, diving, energetics, food habits, and at-sea distribution along the California coast. Procedures would include capture, sedation, morphometrics, isotope and Evans blue dye administration, blood sampling, tagging/marking, instrument attachment, stomach lavage and enema, blubber/muscle biopsy, metabolic measurements, stomach temperature telemeters, and milk sampling. Up to 100 pups/juveniles and 100 adults would be sampled annually, with some or all of the procedures performed. Harassment of unlimited numbers of California sea lions, harbor seals (Phoca vitulina), northern elephant seals (Mirounga augustirostris), and northern fur seals (Callorhinus ursinus) and up to 20 threatened Steller sea lions (Eumetopias jubatus) annually incidental to these activities is requested. The applicant also requests unintentional research-related mortality of up to five California sea lions over the course of the permit.

Concurrent with the publication of this notice in the Federal Register, NMFS is forwarding copies of these applications to the Marine Mammal Commission and its Committee of Scientific Advisors.

Dated: July 28, 2006.
Tammy C. Adams,
Acting Chief, Permits, Conservation and Education Division, Office of Protected Resources, National Marine Fisheries Service.

[FR Doc. E6-12555 Filed 8-2-06; 8:45 am]

BILLING CODE 3510-22-S